DEPARTMENT OF TRANSPORTATION

Coast Guard

33 CFR Part 165

[COTP Los Angeles-Long Beach 02-011]

RIN 2115-AA97

Safety Zone; Offshore Gran Prix powerboat race, Long Beach, California

AGENCY: Coast Guard, DOT.

ACTION: Temporary final rule.

SUMMARY: The Coast Guard is establishing a temporary safety zone in the navigable waters of Long Beach Outer Harbor, Long Beach, California, for the Second Annual Long Beach Offshore Gran Prix powerboat race. This safety zone is needed to provide for the safety of the crews and participants of the race and to protect the participating vessels. Persons and vessels are prohibited from entering into or transiting through this safety zone unless authorized by the Captain of the Port.

DATES: This rule is effective from 12 p.m. to 3 p.m. (PDT) on June 2, 2002.

ADDRESSES: Documents indicated in this preamble as being available in the docket are part of docket (COTP Los Angeles-Long Beach 02-011) and are available for inspection or copying at U.S. Coast Guard Marine Safety Office/Group Los Angeles-Long Beach, 1001 South Seaside Avenue, Building 20, San Pedro, California, 90731 between 9 a.m. and 4 p.m., Monday through Friday, except Federal holidays.

FOR FURTHER INFORMATION CONTACT: Petty Officer Jessica Walsh, Waterways Management Division, at (310) 732-2020.

SUPPLEMENTARY INFORMATION:

Regulatory Information

We did not publish a notice of proposed rulemaking (NPRM) for this regulation. Under 5 U.S.C. 553(b)(B), the Coast Guard finds that good cause exists for not publishing an NPRM. Final details for the event, including the racetrack coordinates and event dates and times, were not provided to the Coast Guard in time to draft and publish an NPRM or a final rule 30 days in advance of its effective date. Any delay in implementing this rule would be contrary to the public interest since immediate action is necessary to ensure the safety of the participant vessels, their crew, and spectators.

Under 5 U.S.C. 553(d)(3), the Coast Guard finds that good cause exists for making this rule effective less than 30 days after publication in the Federal Register. The precise location of the event necessitating the promulgation of this safety zone and other logistical details surrounding the event were not finalized until a date fewer than 30 days prior to the event. Any delay in implementing this rule would be contrary to the public interest since immediate action is necessary to ensure the safety of the participant vessels and their crew.

Background and Purpose

The Second Annual Long Beach Offshore Gran Prix powerboat race is scheduled to be held from 12 p.m. to 3 p.m. (PDT) on June 2, 2002. This safety zone is needed to provide for the safety of both the contestants and the estimated 100 spectator vessels expected to attend this event. This new rule differs slightly from last year's rule in three ways. First, the date of this year's event is 15 days earlier than last year's event. Second, at the request of the local pilot organization, the location of the racecourse was adjusted to the North slightly to encompass less of the commercial anchorage grounds in the Port of Long Beach. Finally, the location of the racecourse was adjusted to the East slightly to allow for a wider traffic fairway for non-participants transiting between the Long Beach downtown marinas and Long Beach gate.

Discussion of Rule

The Coast Guard is establishing a safety zone within the navigable waters of Long Beach Outer Harbor around the offshore oil islands. The area of the safety zone will commence at latitude 33°45′46″ N, longitude 118°10′11″ W; thence proceed to 33°44′48″ N, 118°11′03″ W; thence to 33°43′50″ N, 118°10′08″ W; thence to 33°43′50″ N, 118°08′06″ W; thence to 33°44′56″ N, 118°07′40″ W; thence returning westerly along the shore to the point of origin. [NAD 1983] This safety zone allows for a fairway from the Long Beach downtown marina to Long Beach Gate, and will allow vessels to transit from Alamitos Bay east of the racecourse.

Persons and vessels are prohibited from entering into or transiting through this safety zone unless authorized by the Captain of the Port. By prohibiting all vessel traffic from entering the waters surrounding the racecourse, the risk of high-speed collision will be greatly reduced. U.S. Coast Guard personnel will enforce this safety zone with assistance from the Coast Guard Auxiliary and the Long Beach Gran Prix event staff.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

Since the rule will be in effect for only a short duration, during the time of the Gran Prix event, the Coast Guard expects the economic impact of this rule to be so minimal that full regulatory evaluation under paragraph 10 (e) of the regulatory policies and procedures of DOT is unnecessary.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

We expect this rule will not affect small entities. This rule is closing a small portion of the waterway only for a limited period of time. The rule provides for a fairway from the Long Beach downtown marina to Long Beach Gate, and allows vessels to transit to and from Alamitos Bay east of the racecourse.

Assistance for Small Entities

Under section 213(a) of the Small Business Regulatory Enforcement Fairness Act of 1996 (Public Law 104-121), the Coast Guard wants to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(g), of Commandant Instruction M16475.lD, this rule is categorically excluded from further environmental documentation because we are establishing a safety zone. A “Categorical Exclusion Determination” is available in the docket for inspection or copying where indicated under ADDRESSES.

List of Subjects in 33 CFR Part 165

Harbors, Marine Safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add § 165.T11-067 to read as follows:

§ 165.T11-067 Safety Zone; Offshore Gran Prix powerboat race, Long Beach, California.

(a) Location. The following area constitutes a safety zone within the navigable waters of Long Beach Outer Harbor around the oil islands: commencing at latitude 33°45′46″ N, longitude 118°10′11″ W; thence to 33°44′48″ N, 118°11′03″ W; thence to 33°43′50″ N, 118°10′08″ W; thence to 33°43′50″ N, 118°08′06″ W; thence to 33°44′56″ N, 118°07′40″ W; thence returning westerly along the shore to the point of origin. [NAD 1983]

(b) Effective period. This section is effective from 12 p.m. to 3 p.m. (PDT) on June 02, 2002. If the event concludes prior to the scheduled termination time, the Captain of the Port will cease enforcement of the safety zone and will announce that fact via broadcast notice to mariners.

(c) Regulations. In accordance with the general regulations in § 165.23 of this part, entry into, transit through or anchoring within the safety zone is prohibited unless authorized by the Captain of the Port Los Angeles-Long Beach, California or his designated representative.

Dated: May 22, 2002.
G.P. Cummings,
Commander, U.S. Coast Guard, Alternate Captain of the Port, Los Angeles-Long Beach, California.

[FR Doc. 02-13513 Filed 5-29-02; 8:45 am]

BILLING CODE 4910-15-P